DEPARTMENT OF ENERGY

Federal Energy Regulatory Commission

[Docket No. IC17-13-000]

Commission Information Collection Activities (FERC-717); Comment Request; Revision and Extension

AGENCY: Federal Energy Regulatory Commission, Department of Energy.

ACTION: Notice of revised information collection and request for comments.

SUMMARY: In compliance with the requirements of the Paperwork Reduction Act of 1995, the Federal Energy Regulatory Commission (Commission or FERC) is soliciting public comment on a revision to the information collection, FERC-717, (Open Access Same-Time Information System and Standards for Business Practices and Communication Protocol) which will be submitted to the Office of Management and Budget (OMB) for a review of the information collection requirements.

DATES: Comments on the collection of information are due October 10, 2017.

ADDRESSES: You may submit comments identified by Docket No. IC17-13-000 by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-717, Open Access Same-Time information System and Standards for Business Practices & Communication Protocols.

OMB Control No.: 1902-0173.

Type of Request: Three-year approval of the FERC-717 information collection requirements with no changes to the current reporting requirements.

Abstract: The Commission directs all public utilities that own, control or operate facilities for transmitting energy in interstate commerce to provide certain types of information regarding their transmission operations on an Open Access Same-time Information System (OASIS). The Commission does not believe that open-access nondiscriminatory transmission services can be completely realized until it removes real-world obstacles that prevent transmission customers from competing effectively with the Transmission Provider. One of the obstacles is unequal access to transmission information. The Commission believes that transmission customers must have simultaneous access to the same information available to the Transmission Provider if truly nondiscriminatory transmission services are to be a reality.

The Commission also established Standards of Conduct requiring that personnel engaged in transmission system operations function independently from personnel engaged in marketing functions. The Standards of Conduct were designed to prevent employees of a public utility (or any of its affiliates) engaged in marketing functions from preferential access to OASIS-related information or from engaging in unduly discriminatory business practices. Companies were required to separate their transmission operations/reliability functions from their marketing/merchant functions and prevent system operators from providing merchant employees and employees of affiliates with transmission-related information not available to all customers at the same time through public posting on the OASIS.

Type of Respondents: Transmission Owners and Transmission Operators.

Estimate of Annual Burden: ¹ The Commission estimates a reduction in the annual public reporting burden for the FERC-717. The numbers comport two separate entities: Transmission Owners and Transmission Operators. The respondent estimate provide corresponds to 170 Transmission Operators. The rational is that many Transmission Owners have elected to turn over operational control of their collective transmission systems to Transmission Operators, including RTOs/IS0s (as authorized in 18 CFR 37.5). These Transmission Operators offer OASIS access to the collective systems facilitating a single OASIS transmission request serving multiple transmission systems. As a result of these efficiency gains, the lower respondent count is appropriate. For completeness, we ascribe the reduction in Transmission Owners to mergers and acquisitions occurring during the time periods examined.

¹ Burden is defined as the total time, effort, or financial resources expended by persons to generate, maintain, retain, or disclose or provide information to or for a Federal agency. For further explanation of what is included in the information collection burden, refer to 5 Code of Federal Regulations 1320.3.

Many Transmission Owners have turned over operational control of their collective transmission systems to Transmission Operators, including RTOs/ISOs. As a result of the efficiency gains, and an overestimate of the respondents in our past request, we are submitting a more accurate number of respondents. The changes in business practice standards from version to version requires a different number of hours each time a respondent submits there response. The estimate below reflects the work associated with the most recent version of the standards:

FERC-717, Open Access Same-Time Information System and Standards for Business Practices & Communication Protocols
Information collection requirements | Number of respondents | Annual number of responses per respondent | Total number of responses | Average burden hours and cost per response ² | Total annual burden hours and total annual cost
| (1) | (2) | (1) * (2) = (3) | (4) | (3) * (4) = (5)
FERC-717 | 170 | 1 | 170 | 30 $2,295 | 5,100 $390,150

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The Commission staff thinks that the average respondent for this collection is similarly situated to the Commission, in terms of salary plus benefits. Based upon FERC's 2017 annual average of $158,754 (for salary plus benefits), the average hourly cost is $76.50/hour.

Dated: August 7, 2017.
Nathaniel J. Davis, Sr.,
Deputy Secretary.

[FR Doc. 2017-16959 Filed 8-10-17; 8:45 am]

BILLING CODE 6717-01-P